DEPARTMENT OF JUSTICE

Notice of Lodging of Proposed Consent Decree Under the Clean Air Act

Notice is hereby given that on June 25, 2009, a proposed Consent Decree (“Decree”) in United States v. Holcim (US) Inc., Civil Action No. 2:09-cv-12526-LPZ-DAS, was lodged with the United States District Court for the Eastern District of Michigan.

In this action the United States seeks to address violations of the Clean Air Act at a Portland cement manufacturing facility owned and operated by the Defendant, Holcim (US) Inc., in Dundee, Michigan. The violations, which occurred numerous times for several years, involved emissions from the main stack for two kilns which exceeded 15% opacity and the baghouse inlet temperatures for each kiln exceeding its limitation.

During the course of settlement negotiations with the Department of Justice, the Defendant on November 11, 2008 announced that it must reduce production capacity in its cement operations in response to the extensive downturn in the demand for cement products and stated it would permanently close the Dundee facility. The Defendant permanently shut down its two kilns at the Dundee facility, one kiln on November 30, 2008 and the other kiln on March 14, 2009.

The proposed Decree resolves the Defendant's violations by implementing injunctive relief which will ensure, if operating the kilns at the Dundee facility, the Defendant will not exceed the opacity limitation at the main stack and will not exceed the applicable baghouse inlet temperature for the kilns. Additionally, the Defendant has reporting, notification and approval requirements under the Decree to the U.S. Environmental Protection Agency (“EPA”) and the Michigan Department of Environmental Quality (“MDEQ”), which includes seeking permission and receiving approval from EPA and MDEQ to re-start a permanently closed kiln. The proposed Decree also requires payment of a civil penalty in the amount of $159,607.

The Department of Justice will receive for a period of thirty (30) days from the date of this publication comments relating to the proposed Decree. Comments should be addressed to the Assistant Attorney General, Environment and Natural Resources Division, and either e-mailed to pubcomment-ees.enrd@usdoj.gov or mailed to P.O. Box 7611, U.S. Department of Justice, Washington, DC 20044-7611, and should refer to United States v. Holcim (US) Inc., D.J. Ref. No. 90-5-2-1-09594.

The proposed Decree may be examined at the Office of the United States Attorney, 211 W. Fort Street, Suite 2001, Detroit, Michigan 48226, and at U.S. EPA Region 5, 77 W. Jackson Blvd., 16th Floor (EPA Library), Chicago, Illinois 60604. During the public comment period, the proposed Decree may also be examined on the following Department of Justice Web site http://www.usdoj.gov/enrd/Consent_Decrees.html. A copy of the proposed Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.00 (25 cents per page reproduction cost) payable to the U.S. Treasury or, if by e-mail or fax, forward a check in that amount to the Consent Decree Library at the stated address.

Maureen Katz,
Assistant Chief Environmental Enforcement Section, Environment and Natural Resources Division.

[FR Doc. E9-16412 Filed 7-10-09; 8:45 am]

BILLING CODE 4410-15-P